DEPARTMENT OF AGRICULTURE

Submission for OMB Review; Comment Request

December 19, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Education and Administrative Reporting System (EARS).

OMB Control Number: 0584-NEW.

Summary of Collection: The Food and Nutrition Service (FNS) has developed a new reporting system for the nutrition education component of the Food Stamp Program, which is provided for in section 11(f) of the Food Stamp Act, 7 U.S.C. 2020(f). The new Education and Administrative Reporting System (EARS) will provide uniform data and information about the nutrition education activities of all participating States across the country. The data and information collected through EARS will inform management decisions, support policy initiatives, provide documentation for legislative, budget and other requests, and support planning within the agency. Data will be submitted electronically by all state FSP agencies annually.

Need and Use of the Information: EARS will allow for the collection of uniform data on program activities, making it possible to describe who is reached, what they are taught and how resources are used in Food Stamp Nutrition Education (FSNE). Data collected under this new system include demographic characteristics of participants receiving nutrition education benefits, topics covered by the educational intervention, education delivery sites, education strategies, and resource allocation. Without this data, FNS would not be able to respond timely and effectively to legislative and budget information requests or monitor trends in program activities.

Description of Respondents: State, Local, or Tribal Government.

Number of Respondents: 52.

Frequency of Responses: Reporting: Annually.

Total Burden Hours: 2,808.

Ruth Brown,
Departmental Information Collection Clearance Officer

[FR Doc. E6-21968 Filed 12-21-06; 8:45 am]

BILLING CODE 3410-30-P